DEPARTMENT OF LABOR

Employment and Training Administration

Notice of a Change in Status of the Extended Benefit (EB) Program for Delaware, Minnesota, Mississippi, and Vermont

AGENCY: Employment and Training Administration, Labor.

ACTION: Notice.

This notice announces a change in benefit period eligibility under the EB program for Delaware, Minnesota, Mississippi, and Vermont.

FOR FURTHER INFORMATION CONTACT: U.S. Department of Labor, Employment and Training Administration, Office of Unemployment Insurance Room S-4524, Attn: Thomas Stengle, 200 Constitution Avenue NW, Washington, DC 20210, telephone number (202) 693-2991 (this is not a toll-free number) or by email: Stengle.Thomas@dol.gov.

SUPPLEMENTARY INFORMATION: The following changes have occurred since the publication of the last notice regarding the States' EB status:

• Delaware completed the mandatory 13-week “on” period for a High Unemployment Period (HUP) stipulated by 20 CFR 615.11 on December 19, 2020, and based on the most recent data released by the Bureau of Labor Statistics, the state no longer meets the criteria for the HUP. As such, beginning December 20, 2020, the maximum potential entitlement for claimants in the EB program will decrease from 20 weeks to 13 weeks.

• Based on the data submitted by Minnesota for the week ending November 28, 2020, Minnesota's 13-week insured unemployment rate (IUR) was 4.80 percent, falling below the 5.0 percent IUR threshold necessary to remain “on” EB. Therefore, the EB period for Minnesota ends on December 19, 2020. The state will remain in an “off” period for a minimum of 13 weeks.

• Based on the data submitted by Mississippi for the week ending November 28, 2020, Mississippi's 13-week IUR was 4.70 percent, falling below the 5.0 IUR percent threshold necessary to remain “on” EB. Therefore, the EB period for Mississippi ends on December 19, 2020. The state will remain in an “off” period for a minimum of 13 weeks.

• Based on the data submitted by Vermont for the week ending November 28, 2020, Vermont's 13-week IUR was 4.90 percent, falling below the 5.0 percent IUR threshold necessary to remain “on” EB. Therefore, the EB period for Vermont ends on December 19, 2020. The state will remain in an “off” period for a minimum of 13 weeks.

The trigger notice covering state eligibility for the EB program can be found at: http://ows.doleta.gov/unemploy/claims_arch.as

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

Signed in Washington, DC.
John Pallasch,
Assistant Secretary for Employment and Training.

[FR Doc. 2020-28794 Filed 12-29-20; 8:45 am]

BILLING CODE 4510-FW-P